FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 17, 2013.

A. Federal Reserve Bank of St. Louis (Glenda Wilson, Community Affairs Officer) P.O. Box 442, St. Louis, Missouri 63166-2034:

1. Barbara K. Ferry, Nevada, Missouri, individually and as trustee of the L. Ingles Ferry Trust A, Barbara Fowler Ferry Trust, Hubert L. Fowler Trust, and the Marguerite Fowler Trust, and as a member of a family control group which includes, David L. Ferry, Joseph D. Ferry, Patrick Ferry, Lindley G. Ferry, Barbara J. Benbrook, Scott D. Benbrook, Jeffrey L. Benbrook and Emily L. Benbrook, all of Nevada, Missouri, to acquire control of Mid-Missouri Bancshares, Inc., and thereby acquire control of Mid-Missouri Bank, both of Springfield, Missouri.

Board of Governors of the Federal Reserve System, December 27, 2012.
Robert deV. Frierson,
Secretary of the Board.

[FR Doc. 2012-31473 Filed 12-31-12; 8:45 am]

BILLING CODE 6210-01-P